DEPARTMENT OF COMMERCE

National Oceanic and Atmospheric Administration

RIN 0648-XR83

Marine Mammals; File No. 358-1787

AGENCY: National Marine Fisheries Service (NMFS), National Oceanic and Atmospheric Administration (NOAA), Commerce.

ACTION: Notice; receipt of application for permit amendment.

SUMMARY: Notice is hereby given that the Alaska Department of Fish and Game, Division of Wildlife Conservation, 1255 West 8th Street, Juneau, AK 99802 (Principal Investigator: Robert Small, Ph.D.), has applied for an amendment to Scientific Research Permit No. 358-1787-01.

DATES: Written, telefaxed, or e-mail comments must be received on or before October 26, 2009.

ADDRESSES: The application and related documents are available for review by selecting “Records Open for Public Comment” from the Features box on the Applications and Permits for Protected Species home page, https://apps.nmfs.noaa.gov, and then selecting File No. 358-1787 from the list of available applications.

These documents are also available upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Amy Sloan, (301)713-2289.

SUPPLEMENTARY INFORMATION: The subject amendment is requested under the authority of the Marine Mammal Protection Act of 1972, as amended (16 U.S.C. 1361 et seq.), and the regulations governing the taking and importing of marine mammals (50 CFR part 216).

Permit No. 358-1787, issued on March 10, 2006 (71 FR 14503; March 22, 2006), authorizes the permit holder to conduct surveys of, capture of, tissue sampling of, and attachment of tags and scientific instruments to harbor seals (Phoca vitulina), spotted seals (P. largha), ringed seals (P. hispida), ribbon seals (P. fasciata), and bearded seals (Erignathus barbatus) in Alaska. The purpose of the permitted research is to allow studies to describe the ecology and behavior of these pinnipeds in Alaska. The permit was modified on June 12, 2006, by minor amendment (Permit No. 358-1787-01) to extend the expiration date to December 31, 2011, and adjust the annual reporting period to accommodate the timing of field seasons. A second minor amendment (Permit No. 358-1787-02) was issued on April 4, 2008, to include within the existing allowance for incidental harassment “planned vessel approaches” of harbor seals that have been instrumented with heart-rate monitors and time-depth recorders. That minor amendment did not result in takes of more harbor seals than were already permitted; and the objective was to examine the potential effects of vessel traffic on the metabolic rate and energetic budgets of harbor seals.

The permit holder now requests to increase the number of ringed, bearded, spotted, and ribbon seals that may be captured, from 50 per year to 100 per year, to allow for selection of animals of specific age, sex, and molt condition. For these four species, the holder also requests to include permission to (1) administer diazepam as needed to sedate seals acting aggressively, (2) pull a whisker for stable isotope analyses of diet; and (3) include using a dip net from a boat as an additional capture method. The amendment would be valid for the duration of the permit, which expires on December 31, 2011.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: September 21, 2009.
P. Michael Payne,
Chief, Permits, Conservation and Education Division, Office of Protected Resources, National Marine Fisheries Service.

[FR Doc. E9-23249 Filed 9-24-09; 8:45 am]

BILLING CODE 3510-22-S